DEPARTMENT OF TRANSPORTATION

Federal Railroad Administration

[Safety Advisory 2014-02]

Roadway Worker Authority Limits—Importance of Clear Communication, Compliance with Applicable Rules and Procedures, and Ensuring that Appropriate Safety Redundancies Are in Place in the Event of Miscommunication or Error; Correction

AGENCY: Federal Railroad Administration (FRA), Department of Transportation (DOT).

ACTION: Notice of Safety Advisory; Correction

SUMMARY: On November 25, 2014, FRA published a document in the Federal Register to reemphasize the importance of clear communication and compliance with applicable rules and procedures regarding roadway worker authority limits on controlled track, and to ensure that appropriate safety redundancies are in place to protect against miscommunication or error. The document contained an incorrect job designation (“foreman” instead of “roadway worker in charge”) for an employee in the first incident discussed in the safety advisory that resulted in an employee fatality, and an incorrect location (“Danbury,” instead of “West Haven,” Connecticut) for the second incident that also resulted in an employee fatality. The safety advisory otherwise remains unchanged.

FOR FURTHER INFORMATION CONTACT: Kenneth Rusk, Staff Director, Track Division, Office of Railroad Safety, FRA, 1200 New Jersey Avenue SE., Washington, DC 20590, telephone (202) 493-6236; or Anna Nassif Winkle, Trial Attorney, Office of Chief Counsel, FRA, 1200 New Jersey Avenue SE., Washington, DC 20590, telephone (202) 493-6166.

Correction

In the Federal Register of November 25, 2014, in FR Doc. 2014-27955, on page 70268, in the third column, correct the second and third paragraphs to read as follows:

In November 2013, a BNSF Railway Co. (BNSF) lead welder was killed when his welding truck collided with an eastbound freight train on a single main track at a location that was outside of his roadway work group's limits of authority. It appears from FRA's preliminary investigation that the two-man work group set on the track at a location outside of their authority limits after the workers disagreed regarding the extent of the authority limits and after not being able to quickly resolve the discrepancy because the screen displaying their authority was not visible at the time they set on the track. The roadway worker in charge was apparently attempting to “wake up” the computer screen as the operator was setting their vehicle on and operating over the track, rather than remaining clear of the track until the discrepancy could be resolved, as required by the railroad's good faith challenge procedures.

In May 2013, a Metro-North Commuter Railroad Co. (Metro-North) track foreman was struck and killed by a passenger train in West Haven, Connecticut, after a student dispatcher prematurely removed the control signal blocking devices that had been established for the track foreman's work group, and cleared the signal for the passenger train. Investigation by FRA and the National Transportation Safety Board (NTSB) determined that the student dispatcher assumed that the foreman no longer needed the main track after the dispatcher had lined the foreman-piloted locomotive crane into an out-of-service track. Several weeks prior to this incident, a very similar incident occurred on the same railroad. However, in that situation, the roadway worker detected the advancing train movement in sufficient time to move away from the track and avoid being struck by the train.

Dated: November 26, 2014.
Brenda Moscoso,
Director, Office of Safety Analysis.

[FR Doc. 2014-28380 Filed 11-28-14; 8:45 am]

BILLING CODE 4910-06-P